DEPARTMENT OF ENERGY

Federal Energy Regulatory Commission

[Docket No. EL18-138-000]

Midcontinent Independent System Operator, Inc., ALLETE, Inc., Montana-Dakota Utilities Co., Northern Indiana Public Service Company, Otter Tail Power Company, Southern Indiana Gas & Electric Company; Notice of Institution of Section 206 Proceeding and Refund Effective Date

On April 27, 2018, the Commission issued an order in Docket No. EL18-138-000 pursuant to section 206 of the Federal Power Act (FPA), 16 U.S.C. 824e (2012), instituting an investigation into whether the transmission formula rate templates of ALLETE, Inc., Montana-Dakota Utilities Co., Northern Indiana Public Service Company, Otter Tail Power Company, and Southern Indiana Gas & Electric Company under Attachment O of the Midcontinent Independent System Operator, Inc. Open Access Transmission, Energy and Operating Reserve Markets Tariff may be unjust, unreasonable, or unduly discriminatory or preferential. Midcontinent Independent System Operator, Inc., et al., 163 FERC 61, 061 (2018).

The refund effective date in Docket Nos. EL18-138-000, established pursuant to section 206(b) of the FPA, will be the date of publication of this notice in the Federal Register.

Any interested person desiring to be heard in Docket Nos. EL18-138-000 must file a notice of intervention or motion to intervene, as appropriate, with the Federal Energy Regulatory Commission, 888 First Street, NE, Washington, DC 20426, in accordance with Rule 214 of the Commission's Rules of Practice and Procedure, 18 CFR 385.214 (2017), within 21 days of the date of issuance of the order.

Dated: April 27, 2018.
Kimberly D. Bose,
Secretary.

[FR Doc. 2018-09452 Filed 5-3-18; 8:45 am]

BILLING CODE 6717-01-P